DEPARTMENT OF LABOR

Employment and Training Administration

Investigations Regarding Certifications of Eligibility To Apply for NAFTA Transitional Adjustment Assistance

Petitions for transitional adjustment assistance under the North American Free Trade Agreement-Transitional Adjustment Assistance Implementation Act (Pub. L. 103-182), hereinafter called (NAFTA-TAA), have been filed with State Governors under section 250(b)(1) of subchapter D, chapter 2, title II, of the Trade Act of 1974, as amended, are identified in the Appendix to this Notice. Upon notice from a Governor that a NAFTA-TAA petition has been received, the Director of the Division of Trade Adjustment Assistance (DTAA), Employment and Training Administration (ETA), Department of Labor (DOL), announces the filing of the petition and takes action pursuant to paragraphs (c) and (e) of section 250 of the Trade Act.

The purpose of the Governor's actions and the Labor Department's investigations are to determine whether the workers separated from employment on or after December 8, 1993 (date of enactment of Pub. L. 103-182) are eligible to apply for NAFTA-TAA under subchapter D of the Trade Act because of increased imports from or the shift in production to Mexico or Canada.

The petitioners or any other persons showing a substantial interest in the subject matter of the investigations may request a public hearing with the Director of DTAA at the U.S. Department of Labor (DOL) in Washington, DC provided such request if filed in writing with the Director of DTAA not later than July 30, 2001.

Also, interested persons are invited to submit written comments regarding the subject matter of the petitions to the Director of DTAA at the address shown below not later than July 30, 2001.

Petitions filed with the Governors are available for inspection at the Office of the Director, DTAA, ETA, DOL, Room C-5311, 200 Constitution Avenue, NW., Washington, DC 20210.

Signed at Washington, DC this 10th day of July 2001.
Edward A. Tomchick,
Director, Division of Trade Adjustment Assistance.

Appendix
Subject firm | Location | Date received at governor's office | Petition No. | Articles produced
Lucent Technologeis—Agere Systems (IBEW) | Reading, PA | 06/05/2001 | NAFTA-4,954 | Opteolectronic devices.
Agere Systems (IBEW) | Allentown, PA | 06/06/2001 | NAFTA-4,955 | Opteolectronic devices.
Tyco Kendall Healthcare (Wkrs) | Chatsworth, CA | 05/30/2001 | NAFTA-4,956 | Medical equipment and supplies.
Nortel Networks (Wkrs) | Simi Valley, CA | 05/22/2001 | NAFTA-4,957 | Research, development and engineering.
Philips Display Components (Wkrs) | Ottawa, OH | 06/07/2001 | NAFTA-4,958 | TV tubes.
Coastcast Corporation (Co.) | Rancho Dominguea, CA | 06/05/2001 | NAFTA-4,959 | Steel golf club heads.
Durr Robotics—Behr Systems (Wkrs) | Auburn Hills, MI | 05/14/2001 | NAFTA-4,960 | Booths, feather dusters & feather rolls.
Steiger Lumber (Co.) | Bessemer, MI | 05/23/2001 | NAFTA-4,961 | Hardwood boards.
Ogemaw Firge (UAW) | West Branch, MI | 05/15/2001 | NAFTA-4,962 | Forged components for auto.
Monticello Manufacturing (Co.) | Monticello, KY | 06/05/2001 | NAFTA-4,963 | Men's and ladies shirts and blouses.
Rockwell Collins (Co.) | Pomona, CA | 06/05/2001 | NAFTA-4,964 | In flight entertainment systems.
Hibbing Taconite (Wkrs) | Hibbing, MN | 06/06/2001 | NAFTA-4,965 | Taconite ore pellets.
Penn companies (The) (Co.) | St. Peters, MO | 06/05/2001 | NAFTA-4,966 | Emboridered emblems.
Mrs. Alison's Cookies (Wkrs) | St. Louis, MO | 06/04/2001 | NAFTA-4,967 | Baked goods (sweets).
Thomson Multimedia (Co.) | Dunmore, PA | 06/05/2001 | NAFTA-4,968 | Color tv picture tubes.
Symbol Technologies | Holtsville, NY | 06/04/2001 | NAFTA-4,969 | Radio product.
Erie County Technical School (AFT) | Erie, PA | 06/06/2001 | NAFTA-4,970 | Teachers.
Martin Mills (Co.) | St. Martinville, LA | 06/07/2001 | NAFTA-4,971 | Wearing apparel.
Besser (IBB) | Alpena, MI | 06/07/2001 | NAFTA-4,972 | Concrete requipment & machinery.
Imperial Home Decor (Wkrs) | Knox, TN | 06/13/2001 | NAFTA-4,973 | Wallpaper.
Winky Textiles (Co.) | New York, NY | 06/04/2001 | NAFTA-4,974 | Textiles.
ABB Power T and D Company (Wkrs) | Jefferson City, MO | 06/05/2001 | NAFTA-4,975 | Transformers.
Eaton Corporation (Wkrs) | Shenandoah, IA | 05/24/2001 | NAFTA-4,976 | Heavy duty truck transmissions.
Perlos of Texas (Wkrs) | Ft. Worth, TX | 06/11/2001 | NAFTA-4,977 | Mobile phones.
Industrial Seaming (Co.) | Granite Falls, NC | 06/11/2001 | NAFTA-4,978 | Sewing crib sheets.
Johnson Controls (Co.) | Taylor, MI | 06/12/2001 | NAFTA-4,979 | Automobile seats.
Lomac (ICWUC) | Muskegon, MI | 06/12/2001 | NAFTA-4,980 | Chemicals mixing and blending.
Oneal Steel Weldment (Wkrs) | Roanoke, VA | 06/11/2001 | NAFTA-4,981 | Steel parts.
Future Knits (Co.) | Pineville, NC | 06/12/2001 | NAFTA-4,982 | T-shirts.
Flextronics Enclosures (Co.) | Chambersburg, PA | 06/12/2001 | NAFTA-4,983 | Outdoor enclosures.
Domco—Tarkett (Wkrs) | Whitehall, PA | 06/06/2001 | NAFTA-4,984 | Sheet vinyl flooring.
Winona ( ) | Nashville, IN | 06/06/2001 | NAFTA-4,985 |
Thos. Iseri Produce (Co.) | Ontario, OR | 06/13/2001 | NAFTA-4,986 | Produce.
Tennessee Machine and Hosiery (Co.) | Danridge, TN | 06/15/2001 | NAFTA-4,987 | Men's and boy's athletic socks.
California Cedar Products (Co.) | Roseburg, OR | 06/11/2001 | NAFTA-4,988 | Commerical lumber.
Master Products Mfg. (Wkrs) | Los Angeles, CA | 06/13/2001 | NAFTA-4,989 | Paper punches.
Mayflower Manufacturing (UNITE) | Old Forge, PA | 06/14/2001 | NAFTA-4,990 | Men's, boy's dress & casual slacks.
Triple A Trouser (UNITE) | Scranton, PA | 06/14/2001 | NAFTA-4,991 | Men's and boy's dress & casual slacks.
Teledyne Electronics Technologies (Co.) | Hawthorne, CA | 06/13/2001 | NAFTA-4,992 | Electro mechanical relays.
Allegheny Ludlum Steel (Co.) | Pittsburgh, PA | 06/19/2001 | NAFTA-4,993 | Cold rolled grain oriented electrical.
Invensys Systems (Co.) | Foxboro, MA | 06/15/2001 | NAFTA-4,994 | Printed circuit board.
Elder Manufacturing (UNITE) | Dexter, MO | 06/19/2001 | NAFTA-4,995 | Parochial school uniforms.
Honeywell (Wkrs) | St. Louis Park, MN | 05/02/2001 | NAFTA-4,996 | Circuits.
American Apparel (Wkrs) | Lena, MS | 06/12/2001 | NAFTA-4,997 | Garments.
BASF Corporation (Co.) | Rensselaer, NY | 06/11/2001 | NAFTA-4,998 | Organic chemical dyes.
Pete's Cutting Services 807 (Wkrs) | Hialeal, FL | 06/12/2001 | NAFTA-4,999 | Clothing.
Weyerhaeuser (AWPPW) | Springfield, OR | 06/12/2001 | NAFTA-5,000 | Paper.
Louisiana Pacific (Wkrs) | Rogue River, OR | 06/18/2001 | NAFTA-5,001 | Veneer.
Redwing Shoes (Wkrs) | Danville, KY | 06/18/2001 | NAFTA-5,002 | Leather shoes.
FCI Electronics (Wkrs) | Mt. Union, PA | 06/18/2001 | NAFTA-5,003 | Components for computers.
DeLong Sportwear (Wkrs) | Jefferson, OR | 06/19/2001 | NAFTA-5,004 | Textiles—wool cloth.
California Manufacturing (UNITE) | St. Louis, MO | 06/19/2001 | NAFTA-5,005 | Light winter jackets.
Weyerhaeuser (WPPW) | Longview, WA | 06/19/2001 | NAFTA-5,006 | Uncoated free sheet paper rolls.
Sola Optical (Co.) | Petaluma, CA | 06/18/2001 | NAFTA-5,007 | Optical lens for prescription eyewear.
Tyco Electronics (Wkrs) | Menlo Park, CA | 06/15/2001 | NAFTA-5,008 | Passive fiber optic.
Quaker Oats Company (The) (RWDSU) | St. Joseph, MO | 06/19/2001 | NAFTA-5,009 | Oatmeal, instant grits, pancake mix.
ADC Mersum US (Co.) | South Hackensack, NJ | 06/19/2001 | NAFTA-5,0010 | Remote access for telecom.
Plystar (Wkrs) | Columbia, GA | 06/19/2001 | NAFTA-5,011 | Vacuum seal bags.
Trans Apparel Group (UNITE) | Michigan City, IN | 06/18/2001 | NAFTA-5,012 | Men's slacks.
Outboard Marine (Wkrs) | Delawan, WI | 06/20/2001 | NAFTA-5,013 | Electronic circuit boards.
Thomaston Mills (Co.) | Thomaston, GA | 06/20/2001 | NAFTA-5,014 | Sheets, pillowcases and comforters.
Phantom—Glendale (Wkrs) | Wilkesboro, NC | 06/25/2001 | NAFTA-5,015 | Ladies intimate apparel.
Sagebrush (Wkrs) | Caledonia, MN | 06/18/2001 | NAFTA-5,016 | Technical support of software.
TRW Automotive (UAW) | Milford, MI | 06/21/2001 | NAFTA-5,017 | ABS proportionine valve.
Michigan Rivet (Wkrs) | Petoskey, MI | 06/25/2001 | NAFTA-5,018 | Internally threaded fasteners.
Rivers West Apparel (Wkrs) | Manti, UT | 06/25/2001 | NAFTA-5,019 | Apparel.
D'Clase Cutting Service (Wkrs) | Medley, FL | 06/19/2001 | NAFTA-5,020 | Fabrics & pieces of pants.
Rich Products (Wkrs) | Winchester, VA | 06/25/2001 | NAFTA-5,021 | Breads and rolls.
3M, Inc. (Wkrs) | Columbia, MO | 06/25/2001 | NAFTA-5,022 | Flexable printers.
Magnolia International (Wkrs) | Harlingen, TX | 06/26/2001 | NAFTA-5,023 | Cutting industrial wear
Visteon Systems (IUE/C) | Connersville, IN | 06/22/2001 | NAFTA-5,024 | Radiators, compressors etc.
Coleman Cable (Wkrs) | McAllen, TX | 06/25/2001 | NAFTA-5,025 | Power supply cords.
Textron Fastening Systems—Townsend (Co.) | Spencer, TN | 06/25/2001 | NAFTA-5,026 | Metal fasteners.
Lear Corporation (Co.) | Romulus, MI | 07/03/2001 | NAFTA-5,027 | Automobile seats.
Parker Hannifin (USWA) | Gashen, IN | 07/02/2001 | NAFTA-5,028 | Rubber.
Winona, Inc. (Wkrs) | Winona, MN | 06/06/2001 | NAFTA-5,029 | Sweaters.
Ross Allen Design (Wkrs) | Bean Station, TN | 06/28/2001 | NAFTA-5,030 | Designs.
Cordis (Co.) | Miami Lakes, FL | 06/29/2001 | NAFTA-5,031
National Textiles (Co.). | Gaffney, SC | 06/27/2001 | NAFTA-5,032 | Active wear apparel products.
Blue Ridge Textiles Printers (Co.) | Statesville, NC | 06/26/2001 | NAFTA-5,033 | Textile printing sheeting.
General Electric (IUE-C) | Fort Wayne, IN | 06/25/2001 | NAFTA-5,034 | Permanent magnetic and AC motors.
Excel Group (Co.) | Murray, KY | 06/27/2001 | NAFTA-5,035 | Mattel toys.
Andrew Corp.—RF Subsystems Group (Co.) | Orland Park, IL | 06/27/2001 | NAFTA-5,036 | Coax cable assemblies.
Percision Mold (Co.) | Kent, WA | 06/27/2001 | NAFTA-5,037 | Plastic injection.
MuRata Electronics North America (Wkrs) | State College, PA | 06/27/2001 | NAFTA-5,038 | Microwave filters.
Louisiana Pacific (Wkrs) | Roeue River, OR | 06/22/2001 | NAFTA-5,039 | Veneer.
Sheldahl (Wkrs) | Britton, SD | 06/27/2001 | NAFTA-5,040 | Flexible circuit assembly.
Seagate Technology (Co.) | Oklahoma City, OK | 06/28/2001 | NAFTA-5,041 | Refurbishment operations.
Exide Technologies (UAW) | Burlington, IA | 06/28/2001 | NAFTA-5,042 | Automotive batteries.
Cooper Wiring Devices (USWA) | Georgetown, SC | 06/29/2001 | NAFTA-5,043 | Wall plugs, light switches etc.

[FR Doc. 01-18153 Filed 7-19-01; 8:45 am]

BILLING CODE 4510-30-M